DEPARTMENT OF THE TREASURY

Submission for OMB Review; Comment Request

June 22, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 27, 2009 to be assured of consideration.

Financial Management Service (FMS)

OMB Number: 1510-0013.

Type of Review: Revision.

Form: FMS 2208.

Title: States Where Licensed for Surety.

Description: Information collected from insurance companies provides Federal bond approving officers with a listing of states, by company, in which they are licensed to write Federal bonds. This information appears in the Treasury's Circular 570.

Respondents: Businesses or other for-profits.

Estimated Total Burden Hours: 268 hours.

Clearance Officer: Wesley Powe (202) 874-7662. Financial Management Service, Room 135, 3700 East West Highway, Hyattsville, MD 20782.

OMB Reviewer: OIRA Desk Officer, Office of Management and Budget, Room 10235, New Executive Office Building, Washington, DC 20503. oira_submission@omb.eop.gov.

Robert Dahl,
Treasury PRA, Clearance Officer.

[FR Doc. E9-14998 Filed 6-24-09; 8:45 am]

BILLING CODE 4810-35-P